DEPARTMENT OF LABOR

Employment and Training Administration

[TA-W-80,106]

Workers From Kelly Services, Working On-Site at Delphi Automotive Systems, LLC, Powertrain Division, El Paso, TX; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on July 5, 2011, applicable to leased workers from Kelly Services working on-site at Delphi Automotive Systems, LLC, El Paso, Texas. The workers are engaged in activities related to warehousing and distribution of automotive components. The notice will be published soon in the Federal Register.

At the request of the State agency, the Department reviewed the certification for workers of the subject firm. New information shows the correct name of the subject firm in its' entirety should read leased workers from Kelly Services, working on-site at Delphi Automotive Systems, LLC, Powertrain Division, El Paso, Texas.

Accordingly, the Department is amended this certification to correct the name of the subject firm to read leased workers from Kelly Services, working on-site at Delphi Automotive Systems, LLC, Powertrain Division, El Paso, Texas.

The amended notice applicable to TA-W-80,092 is hereby issued as follows:

All leased workers from Kelly Services, working on-site at Delphi Automotive Systems, LLC, Powertrain Division, El Paso, Texas, who became totally or partially separated from employment on or after April 5, 2010, through July 5, 2013, are eligible to apply for adjustment assistance under Section 223 of the Trade Act of 1974, and are also eligible to apply for alternative trade adjustment assistance under Section 246 of the Trade Act of 1974.

Signed at Washington, DC this 22nd day of July 2011.
Michael W. Jaffe,
Certifying Officer, Office of Trade Adjustment Assistance.

[FR Doc. 2011-19577 Filed 8-2-11; 8:45 am]

BILLING CODE 4510-FN-P